DEPARTMENT OF TRANSPORTATION

Federal Transit Administration

Supplemental Draft Environmental Impact Statement on the Manhattan East Site Alternatives Project—“Second Avenue Subway.”

AGENCY: Federal Transit Administration, DOT.

ACTION: Notice of intent to prepare a supplemental draft environmental impact statement.

SUMMARY: The Federal Transit Administration (FTA) and the Metropolitan Transportation Authority/New York City Transit (MTA/NYCT) are issuing this notice to advise the public and interested agencies that a Supplemental Draft Environmental Impact Statement (SDEIS) will be prepared by the FTA and MTA/NYCT on the Manhattan East Side Alternatives Project (MESA). The SDEIS will evaluate a “full-length” Second Avenue Subway alignment in Manhattan, extending from the vicinity of 125th Street in Harlem south along Second Avenue to the Financial District in Lower Manhattan. The original Notice of Intent to prepare a DEIS for the MESA project was issued on June 30, 1995.

The MESA DEIS/MIS (Major Investment Study), released to the public August 13, 1999, contained four alternatives. The build alternatives of that document included a Second Avenue subway alignment extending from the vicinity of 125th Street south to East 63rd Street; a composite build alternative also included complementary bus and light rail alternatives from 63rd Street to Lower Manhattan and Lower East Side. During the preliminary MIS, a full-length subway alternative had been considered, but consideration of that alternative was discontinued because of cost concerns. As a result of public comments and elected officials' concerns, the MTA has decided to fully evaluate a Second Avenue Subway line extending from 125th Street to Lower Manhattan.

The SDEIS will present new information or circumstances relevant to the full-length Second Avenue Subway alignment and evaluate environmental impacts that were not evaluated in the MESA DEIS. In addition, the SDEIS will evaluate alternatives that improve transit access to the Lower East Side of Manhattan that may ultimately supplement Build Alternative 3 or progress as an independent project.

The participation of the general public, interested parties, and agencies is encouraged and will be solicited. Public outreach meetings will be held to discuss the information to be included in the SDEIS.

DATES: Initial outreach meeting will be held on Thursday April 19, 2001 at 6:00 p.m. at the location identified below. Subsequent meetings will be announced by mail, Internet, and other appropriate mechanisms, and conducted throughout the study area. Written comments should be sent to MTA New York City Transit by April 23, 2001. See ADDRESSES below.

ADDRESSES: The initial outreach meeting will be held at the Metropolitan Transportation Authority, Fifth Floor Boardroom, 347 Madison Avenue, New York, New York. Subsequent meetings will be held throughout the study area.

FOR FURTHER INFORMATION CONTACT: Irwin Kessman, Director, Office of Planning and Program Development, Federal Transit Administration, Region II. One Bowling Green, Suite 29-40, New York, NY 10004-1415; Telephone 212-668-2170. James Dubbs, Assistant Director, Government and Community Relations, MTA New York City Transit, 130 Livingston Street, Brooklyn, NY 11201; Telephone 718-694-5141. Additional project information may be obtained from the MTA website: ­http://www.mta.nyc.ny.us/planning/index.html.

SUPPLEMENTARY INFORMATION: The MESA DEIS evaluated four major alternatives: (1) Do-nothing or “No-Build,” (2) Transportation System Management (primarily bus service changes and prioritizations), (3) Build Alternative 1 (subway extension of the Broadway Line, beneath Second Avenue from East 63rd Street to East 125th Street, and bus improvements), and (4) Build Alternative 2 (Build Alternative 1 plus a Light Rail system from 14th Street to Whitehall Street through the Lower East Side). The MESA DEIS suggested that Build Alternative 1 provided the best combination of improved transit mobility and accessibility, reduced auto and taxi trip making, and cost-effectiveness.

In this SDEIS, MTA/NYCT will evaluate a new “Build Alternative 3” and a No-Build Alternative. The Build Alternative 3 is a full-length two-track Second Avenue Subway alignment from the vicinity of 125th Street to the Financial District in Lower Manhattan. The alignment between 125th Street and 63rd Street is unchanged from the alignment presented in the DEIS, including a connection to the 63rd Street/7th Avenue Broadway line. Build Alternative 3 continues the subway beneath Second Avenue south of 63rd Street, and for the portion of the Second Avenue Subway south of 14th Street, two alignment options will be evaluated in the SDEIS: Option A continues the subway beneath Chrystie Street, St. James Place, and Water Street to a terminal in Lower Manhattan. Option B proposes connecting the new subway to the existing tracks of the former BMT “Nassau Loop” beneath Kenmare Street to access Lower Manhattan.

The MESA DEIS originally presented a Light Rail Transit system alternative in the Lower East Side as a complementary project to the initial 125th Street to 63rd Street subway proposal. The SDEIS also will explore additional transit solutions to Lower East Side needs that may have fewer neighborhood impacts. Subsequent findings regarding Lower East Side transit solutions discussed in the SDEIS may supplement Build Alternative 3, or advance as an independent project.

The SDEIS will fully evaluate Build Alternative 3, including Options A and B, with respect to benefits and costs, environmental and other impacts (including any cumulative impacts) and proposed mitigation measures. The SDEIS will also provide responses to public comments received on the MESA DEIS during the public comment period, which occurred between August 13 and October 8, 1999.

While an alignment south of 63rd Street to Lower Manhattan was originally discussed during the preliminary MESA MIS, it was also considered during the Major Investment Study phase of the MTA's Lower Manhattan Access MIS. Much of the technical information gathered in the Lower Manhattan Alternatives MIS will be incorporated into the MESA SDEIS. The MTA will hold public meetings in late spring 2001 to discuss the conclusions and recommendations of the Lower Manhattan Alternatives MIS, which is scheduled for completion by the end of 2001.

As noted above the SDEIS will evaluate the potential social, economic and environmental impacts of a full-length Second Avenue Subway alternative. Upon completion the SDEIS will be made available for public and agency review and comment. Public hearing(s) will be held within the study area. On the basis of the SDEIS as well as comments received from the public participation process, a final EIS will be prepared.

Issued on: March 16, 2001.
Letitia Thompson,
Regional Administrator, Federal Transit Administration.

[FR Doc. 01-7070 Filed 3-21-01; 8:45 am]

BILLING CODE 4910-57-P